FEDERAL COMMUNICATIONS COMMISSION

Federal Advisory Committee Act; Downloadable Security Technical Advisory Committee

AGENCY: Federal Communications Commission.

ACTION: Notice; intent to establish.

SUMMARY: In accordance with the Federal Advisory Committee Act, the purpose of this notice is to announce that a Federal Advisory Committee, known as the “Downloadable Security Technology Advisory Committee,” is being established. This committee will report to the Commission about downloadable security for devices that access multichannel video programming services, as required by the STELA Reauthorization Act of 2014.

DATES: The first meeting of the Downloadable Security Technology Advisory Committee will take place no later than Wednesday, March 4, 2015.

ADDRESSES: Federal Communications Commission, 445 12th Street SW., Washington, DC 20554.

FOR FURTHER INFORMATION CONTACT: For additional information on this proceeding, contact Brendan Murray, Brendan.Murray@fcc.gov, of the Media Bureau, Policy Division, (202) 418-1573 or Nancy Murphy, Nancy.Murphy@fcc.gov, of the Media Bureau, 202-418-1043.

SUPPLEMENTARY INFORMATION: Section 629 of the Communications Act, 47 U.S.C. 549, directs the Commission to adopt regulations that will allow consumers to buy set-top boxes and other equipment that can access cable, satellite, and other multichannel video programming services (which the Commission refers to as “navigation devices”) in lieu of leasing them from their providers. Section 629 also requires that these regulations respect the “legal rights of a provider of such services to prevent theft of service.” 47 U.S.C. 549(b). Pursuant to the regulations adopted under section 629, the cable industry has supported the hardware-based CableCARD standard to support consumer-owned equipment and prevent theft of service over the course of the past ten years.

Section 106 of the STELA Reauthorization Act of 2014, Public Law 113-200 (2014), directs the Commission to establish an advisory committee “of technical experts that represent the viewpoints of a wide range of stakeholders to identify, report, and recommend performance objectives, technical capabilities, and technical standards of a not unduly burdensome, uniform, and technology- and platform-neutral software-based downloadable security system to promote the competitive availability of navigation devices in furtherance of Section 629 of the Communications Act.”

The duties of the advisory committee will be to study and report findings and recommendations regarding a “uniform, and technology- and platform-neutral software-based downloadable security system.” STELA Reauthorization Act of 2014, Public Law 113-200, § 106 (2014). The Committee Management Secretariat, General Services Administration concurs with the establishment of the advisory committee.

This Downloadable Security Technical Advisory Committee will present its report to the Commission no later than September 4, 2015.

Federal Communications Commission.
Marlene H. Dortch,
Secretary.

[FR Doc. 2014-29756 Filed 12-18-14; 8:45 am]

BILLING CODE 6712-01-P